NATIONAL AERONAUTICS AND SPACE ADMINISTRATION

[Notice: (20-008)]

Notice of Intent To Grant Exclusive License

AGENCY: National Aeronautics and Space Administration.

ACTION: Notice of intent to grant exclusive patent license.

SUMMARY: NASA hereby gives notice of its intent to grant an exclusive patent license in the United States to practice the inventions set forth below (see, SUPPLEMENTARY INFORMATION) to Oerlikon Metco (US) Inc., having its principal place of business in Westbury, New York. The fields of use may be limited to power generation and aerospace. NASA has not yet made a determination to grant the requested license and may deny the requested license even if no objections are submitted within the comment period.

DATES: The prospective exclusive license may be granted unless, no later than February 18, 2020, NASA receives written objections including evidence and argument that establish that the grant of the license would not be consistent with the requirements regarding the licensing of federally owned inventions as set forth in the Bayh-Dole Act and implementing regulations. Competing applications completed and received by NASA no later than February 18, 2020 will also be treated as objections to the grant of the contemplated exclusive license. Objections submitted in response to this notice will not be made available to the public for inspection and, to the extent permitted by law, will not be released under the Freedom of Information Act.

ADDRESSES: Objections relating to the prospective license may be submitted to Patent Counsel, Office of Chief Counsel, MS 142-7, NASA Glenn Research Center, 21000 Brookpark Rd., Cleveland, OH 44135. Phone (216) 433-3663. Facsimile (216) 433-6790.

FOR FURTHER INFORMATION CONTACT: Robert Earp, Patent Counsel, Office of Chief Counsel, MS 142-7, NASA Glenn Research Center, 21000 Brookpark Rd., Cleveland, OH 44135. Phone (216) 433-3663. Facsimile (216) 433-6790.

SUPPLEMENTARY INFORMATION: The inventions NASA intends to exclusively license to Oerlikon Metco (US) Inc. are the inventions described and claimed in U.S. Patent Application Serial Number 13/923,450 entitled “Advanced High Temperature and Fatigue Resistant Environmental Barrier Coating Bond Coat Systems for SiC/SiC Ceramic Matrix Composites,” LEW-18949-1; U.S. Patent Application Serial Number 15/582,874 entitled “Advanced High Temperature Environmental Barrier Coating Systems for SiC/SiC Ceramic Matrix Composites,” LEW-18949-2; U.S. Patent Application Serial Number 15/625,277 entitled “Advanced High Temperature Environment Barrier Coatings for SiC/SiC Ceramic Matrix Composites,” LEW-19435-1; U.S. Patent Application Serial Number 15/713,821 entitled “Ultra High Temperature Ceramic Coatings and Ceramic Matrix Composite Systems,” LEW-19456-1; U.S. Patent Application Serial Number 15/824,036 entitled “Calcium-Magnesium-Aluminosilicate (CMAS) Resistant Thermal and Environmental Barrier Coatings,” LEW-19512-1; U.S. Patent Application Serial Number 15/882,435 entitled “Multi-Component High Stability Environmental Barrier Coatings For SiC/SiC Ceramic Matrix Composites,” LEW-19595-1; U.S. Patent Application Serial Number 15/935,501 entitled “High Temperature Compositionally Graded Ceramic Matrix Composites and Methods of Making and Using the Same,” LEW-19610-1; and, U.S. Patent Application Serial Number 62/854,355 entitled “Visco-Elastic, Durable Environmental Barrier Coatings For SiC/SiC Ceramic Matrix Composites and The Method of Producing the Same,” LEW-19842-1, to Oerlikon Metco (US) Inc., having its principal place of business in Westbury, New York. The fields of use may be limited to power generation and aerospace.

This notice of intent to grant an exclusive patent license is issued in accordance with 35 U.S.C. 209(c)(1) and 37 CFR 404.7(a)(1)(i). The patent rights in these inventions have been assigned to the United States of America as represented by the Administrator of the National Aeronautics and Space Administration. The prospective exclusive license will comply with the requirements of 35 U.S.C. 209 and 37 CFR 404.7.

Information about other NASA inventions available for licensing can be found online at http://technology.nasa.gov.

Cheryl Parker,
Federal Register Liaison Officer.

[FR Doc. 2020-01884 Filed 1-31-20; 8:45 am]

BILLING CODE 7510-13-P